DEPARTMENT OF COMMERCE

National Oceanic and Atmospheric Administration

50 CFR Part 679

[Docket No. 041126332-5039-02; I.D. 112105A]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from vessels using trawl, pot, jig and hook-and-line gear to catcher processor vessels using hook-and-line gear in the BSAI. These actions are necessary to allow the 2005 total allowable catch (TAC) of Pacific cod to be harvested.

DATES: Effective November 21, 2005, until 2400 hours, Alaska local time, December 31, 2005.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2005 Pacific cod TAC in the BSAI is 190,550 metric tons (mt) as established by the 2005 and 2006 final harvest specifications for groundfish in the BSAI (70 FR 8979, February 24, 2005). Pursuant to § 679.20(a)(7)(i)(A), 3,811 mt was allocated to vessels using jig gear, 97,181 mt to vessels using hook-and-line or pot gear, and 89,559 mt to vessels using trawl gear. The share of the Pacific cod TAC allocated to trawl gear was further allocated 50 percent to catcher vessels and 50 percent to catcher/processor vessels (§ 679.20(a)(7)(i)(B)). The share of the Pacific cod TAC allocated to hook-and-line or pot gear was further allocated 80 percent to catcher/processor vessels using hook-and-line gear; 0.3 percent to catcher vessels using hook-and-line gear; 3.3 percent to catcher/processor vessels using pot gear; 15 percent to catcher vessels using pot gear; and 1.4 percent to catcher vessels less than 60 ft (18.3 meters (m)) length overall (LOA) that use either hook-and-line or pot gear (§ 679.20(a)(7)(i)(C)).

On April 13, 2005, 1,150 mt of Pacific cod from the A season apportionment of the jig gear allocation was reallocated to catcher vessels less than 60 feet (18.3 m) LOA using hook-and-line or pot gear (70 FR 19708, April 14, 2005). On May 17, 2005, 350 mt of Pacific cod from the B season apportionment of the jig gear allocation was reallocated to catcher vessels less than 60 feet (18.3 m) LOA using hook-and-line or pot gear (70 FR 28486, May 18, 2005). On August 5, 2005, an additional 500 mt of Pacific cod from the B season apportionment of the jig gear allocation was reallocated to catcher vessels less than 60 feet (18.3 m) LOA using hook-and-line or pot gear (70 FR 46436, August 10, 2005). On October 5, 2005, 17,962 mt of Pacific cod allocated to trawl vessels and 1,611 mt of Pacific cod allocated to jig vessels was reallocated to vessels using hook-and-line gear and vessels using pot gear (70 FR 58983, October 11, 2005).

As of November 14, 2005, the Administrator, Alaska Region, NMFS (Regional Administrator), has determined that trawl catcher vessels will not be able to harvest 243 mt of Pacific cod allocated to those vessels under § 679.20(a)(7)(i)(B). The Regional Administrator has also determined that catcher vessels using pot gear will not be able to harvest 2,410 mt and catcher vessels using hook-and-line gear will not be able to harvest 60 mt. Also catcher/processor vessels using pot gear will not be able to harvest any additional Pacific cod. Therefore, in accordance with § 679.20(a)(7)(ii)(C), NMFS apportions 2,713 mt of Pacific cod to catcher/processor vessels using hook-and-line gear.

The Regional Administrator has also determined that vessels using jig gear will not harvest 34 mt of their Pacific cod allocation by the end of the year. Also, catcher vessels less than 60 feet (18.3 m) LOA using hook-and-line or pot gear will not be able to harvest 753 mt. Therefore, in accordance with § 679.20(a)(7)(ii)(C)(1) and § 679.20(a)(7)(ii)(B), NMFS is reallocating the unused amount of 787 mt of Pacific cod allocated to vessels using jig gear and catcher vessels less than 60 feet (18.3 m) LOA using hook-and-line or pot gear to catcher/processor vessels using hook-and-line gear.

The harvest specifications for Pacific cod included in the harvest specifications for groundfish in the BSAI (70 FR 8979, February 24, 2005) are revised as follows: 166 mt to vessels using jig gear, 99,519 mt to catcher/processor vessels using hook-and-line gear, 12,828 mt to catcher vessels using pot gear, 230 mt to catcher vessels using hook-and-line gear, 35,847 mt to catcher vessels using trawl gear, and 2,601 mt to catcher vessels less than 60 feet (18.3 m) LOA using hook-and-line or pot gear.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the reallocation of projected unused amounts of Pacific cod in the BSAI. NMFS was unable to publish an action providing time for public comment because the most recent, relevant data only became available as of November 15, 2005.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: November 21, 2005.
Alan D. Risenhoover,
Acting Director, Office of Sustainable Fisheries, National Marine Fisheries Service.

[FR Doc. 05-23283 Filed 11-21-05; 3:11 pm]

BILLING CODE 3510-22-S